DEPARTMENT OF JUSTICE

Office of Justice Programs

[OMB Number 1121-NEW]

Bureau of Justice Statistics; Agency Information Collection Activities: Proposed Collection; Comments Requested

ACTION: 30-day notice of new information collection: 2007 Survey of Public Defenders Offices.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register Volume 71, Number 242, page 75772 on December 18, 2006, allowing for a 60-day public comment period.

The purpose of this notice is to allow an additional 30 days for public comment until March 19, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the pubic and affected agencies concerning the proposed collection of information are encouraged. Your comments should address one or more of the following four points:

— Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of Information Collection: Reinstatement, with change, of a previously approved collection for which approval has expired. 2007 Survey of Public Defenders Offices.

(2) The Title of the Form/Collection: 2007 Survey of Public Defenders Offices.

(3) The Agency Form Number, if any, and the Applicable Component of the Department Sponsoring the Collection: Previous OMB number was 1121-0095. The agency form numbers are 06-SPDO Form-A and 06-SPDO Form-B. Bureau of Justice Statistics, Office of Justice Programs, United States Department of Justice.

(4) Affected Public Who Will be Asked or Required to Respond, as well as a Brief Abstract: Primary: All State- and locally-funded attorneys serving as the head public defender for a county, city, or judicial district. Other: None.

This nationwide information collection will identify the number and characteristics of state- and county-funded public defender offices. Information will be gathered on type of offenses represented, expenditures, caseloads, training requirements, funding sources, reliance on outside legal services, and other related administrative issues. The information collected will provide a comprehensive portrait of state and local efforts to meet the needs of indigent criminal defendants through designated public defender offices.

(5) An Estimate of the Total Number of Respondents and the Amount of Time Estimated for an Average Respondent to Respond: An estimated 1,400 public defender offices will complete a 1-hour county questionnaire (06-SPDO Form-A).

(6) An Estimate of the Total Public Burden (in hours) Associated with the Collection: The estimated public burden associated with this collection is 1,400 hours. (1,400 data collection forms completed by each public defender office* one hour per form = 1,400 burden hours).

If additional information is required contact: Mrs. Lynn Bryant, Department Clearance Officer, United States Department of Justice, Justice Management Division, Policy and Planning Staff, Patrick Henry Building, Suite 1600, 601 D Street, NW., Washington, DC 20530.

Dated: February 12, 2007.
Lynn Bryant,
Department Clearance Officer, PRA, United States Department of Justice.

[FR Doc. E7-2800 Filed 2-15-07; 8:45 am]

BILLING CODE 4410-18-P